DEPARTMENT OF EDUCATION

[CFDA Number 84.215P]

Promise Neighborhoods Program

AGENCY: Office of Innovation and Improvement, Department of Education.

ACTION: Notice inviting applications for new awards for fiscal year (FY) 2010; correction; extension of application deadline.

SUMMARY: On May 5, 2010, we published in the Federal Register (75 FR 10492) a notice inviting applications for new awards for FY 2010 for the Promise Neighborhoods Program (May 5 notice). The May 5 notice established a deadline of June 25, 2010, for the submission of applications under this competition. Through this notice, we are correcting the May 5 notice and are extending the deadline for transmittal of applications and the deadline for intergovernmental review.

SUPPLEMENTARY INFORMATION: Correction. This notice corrects the May 5 notice by removing language that established a maximum page limit for the application narrative for applications submitted under this competition. We are taking this action because the maximum page limit established for the application narrative was an administrative error and unduly restricts applicant flexibility. To correct this error, the Department makes the following correction to the May 5 notice:

On page 24680, second column, the last paragraph, the word “must” is replaced with the words “are strongly encouraged to”.

Extension. In light of this error, we are extending the deadline for the transmittal of applications to June 28, 2010, and the deadline for intergovernmental review to August 27, 2010. The updated dates are as follows:

Deadline for Transmittal of Applications: June 28, 2010.

Deadline for Intergovernmental Review: August 27, 2010.

FOR FURTHER INFORMATION CONTACT: Larkin Tackett, U.S. Department of Education, 400 Maryland Avenue, SW., Room 4W338, Washington, DC 20202-5970. Telephone: (202) 453-6615 or by e-mail: promiseneighborhoods@ed.gov.

If you use a telecommunications device for the deaf, call the Federal Relay Service, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 21, 2010.
James H. Shelton, III,
Assistant Deputy Secretary for Innovation and Improvement.

[FR Doc. 2010-15346 Filed 6-23-10; 8:45 am]

BILLING CODE 4000-01-P